DEPARTMENT OF VETERANS AFFAIRS

[OMB Control No. 2900-0695]

Agency Information Collection Activity Under OMB Review: Application for Reimbursement of Licensing or Certification Test Fees

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 1, 2018.

ADDRESSES: Submit written comments on the collection of information through www.Regulations.gov, or to Office of Information and Regulatory Affairs, Office of Management and Budget, Attn: VA Desk Officer; 725 17th St. NW, Washington, DC 20503 or sent through electronic mail to oirasubmission@omb.eop.gov. Please refer to “OMB Control No. 2900-0695” in any correspondence.

FOR FURTHER INFORMATION CONTACT: Cynthia Harvey-Pryor, Office of Quality, Privacy and Risk (OQPR), Department of Veterans Affairs, 810 Vermont Avenue NW, Washington, DC 20420, (202) 461-5870 or email Cynthia.Haryey-Pryor@va.gov.

Please refer to “OMB Control No. 2900-0695” in any correspondence.

SUPPLEMENTARY INFORMATION:

Authority: Title V of Public Law 110-252.

Title: Application for Reimbursement of Licensing or Certification Test Fees.

OMB Control Number: 2900-0695.

Type of Review: Revision of a currently approved collection.

Abstract: Claimants complete VA Form 22-0803 to request reimbursement of licensing or certification fees paid.

An agency may not conduct or sponsor, and a person is not required to respond to a collection of information unless it displays a currently valid OMB control number. The Federal Register Notice with a 60-day comment period soliciting comments on this collection of information was published at 83 FR 36 on February, 22, 2018, pages 7849 and 7850.

Affected Public: Individuals or Households.

Estimate: Annual Burden: 660 hours.

Estimated Average Burden per Respondent: 15 minutes.

Frequency of Response: Annually.

Estimated Number of Respondents: 2,641.

By direction of the Secretary.
Cynthia D. Harvey-Pryor,
Department Clearance Officer, Office of Quality, Privacy and Risk, Department of Veterans Affairs.

[FR Doc. 2018-18918 Filed 8-30-18; 8:45 am]

BILLING CODE 8320-01-P